DEPARTMENT OF AGRICULTURE

Agricultural Marketing Service

[Doc. No. AMS-NOP-17-0043; NOP-17-07]

National Organic Program: Notice of Interim Instruction, Maintaining the Integrity of Organic Imports

AGENCY: Agricultural Marketing Service, USDA.

ACTION: Notice of availability of interim instruction with request for comments.

SUMMARY: The Agricultural Marketing Service (AMS) is announcing the availability of an interim instruction document intended for use by USDA-accredited organic certifying agents (certifiers). The interim instruction is entitled as follows: Maintaining the Integrity of Organic Imports (NOP 4013). This interim instruction explains the USDA organic regulations' current requirements for certifiers engaged in the oversight of organic products imported into the United States. It also recommends best practices that certifiers may use in order to comply with the existing regulations. AMS invites organic handlers, certifying agents, importers, consumers, and other interested parties to submit comments on the interim instruction. Specifically, comments should address the parts of the instruction that recommend best practices that certifiers may use to ensure compliance with the USDA organic regulations. This document is not intended to request comments on the existing USDA organic regulations found at 7 CFR part 205.

DATES: Comments must be submitted on or before December 26, 2017.

ADDRESSES: Submit written requests for hard copies of this interim instruction to Paul I. Lewis, Ph.D., Standards Division Director, National Organic Program (NOP), USDA-AMS-NOP, 1400 Independence Ave. SW., Room 2646—So., Ag Stop 0268, Washington, DC 20250-0268. See the SUPPLEMENTARY INFORMATION section for electronic access to the draft guidance document.

You may submit comments on this interim instruction by any of the following methods:

• Federal eRulemaking Portal: http://www.regulations.gov. Follow the instructions for submitting comments.

• Mail: Paul I. Lewis, Ph.D., Standards Division Director, National Organic Program, USDA-AMS-NOP, 1400 Independence Ave. SW., Room 2646—So., Ag Stop 0268, Washington, DC 20250-0268.

Instructions: Written comments responding to this request should be identified with the document number AMS-NOP-17-0043; NOP-17-07. You should clearly indicate your position and the reasons supporting your position. If you are suggesting changes to the draft instruction document, you should include recommended language changes, as appropriate, along with any relevant supporting documentation. AMS is specifically requesting that stakeholders comment and quantify any impacts that the instruction will have on certified operations.

USDA intends to make available all comments, including names and addresses when provided, regardless of submission procedure used, on www.regulations.gov and at USDA, AMS, NOP, Room 2646—South Building, 1400 Independence Ave. SW., Washington, DC, from 9 a.m. to noon and from 1 to 4 p.m., Monday through Friday (except official Federal holidays). Persons wanting to visit the USDA South building to view comments from the public to this notice are requested to make an appointment by calling (202) 720-3252.

FOR FURTHER INFORMATION CONTACT: Paul I. Lewis, Ph.D., Standards Division Director, National Organic Program (NOP), USDA-AMS-NOP, 1400 Independence Ave. SW., Room 2646—So., Ag Stop 0268, Washington, DC 20250-0268; Telephone: (202) 720-3252; Fax: (202) 260-9151; Email: NOP.Guidance@ams.usda.gov; or visit the NOP Web site at: www.ams.usda.gov/nop.

SUPPLEMENTARY INFORMATION:

I. Background

The interim instruction announced via this notice explains the current regulatory requirements for organic certification and documentation needed to import organic products into the United States, and certifiers' responsibilities in reviewing or issuing import related documents. The instruction also recommends best practices that certifiers may use in order to comply with existing regulatory requirements.

The USDA AMS National Organic Program (NOP) facilitates international trade of organic products by authorizing certifiers around the world to certify farms and businesses to the USDA organic regulations and by establishing trade arrangements with foreign countries. Foreign operations are subject to the same requirements as domestic operations, and organic products verified to be in compliance with these regulations or arrangements can be imported for sale into the United States.

The interim instruction is available from AMS on its Web site at http://www.ams.usda.gov/rules-regulations/organic. When finalized, the final instruction will be available in “The Program Handbook: Guidance and Instructions for Accredited Certifying Agents (ACAs) and Certified Operations”. This Handbook provides those who own, manage, or certify organic operations with guidance and instructions that can assist them in complying with the USDA organic regulations. The current edition of the Program Handbook is available online at http://www.ams.usda.gov/rules-regulations/organic/handbook.

II. Significance of Guidance

This interim instruction is being issued in accordance with the Office of Management and Budget Bulletin on Agency Good Guidance Practices (GGPs) (January 25, 2007, 72 FR 3432-3440).

The purpose of GGPs is to ensure that program guidance documents are developed with adequate public participation, are readily available to the public, and are not applied as binding requirements. The interim instruction represents AMS' efforts to clarify and strengthen compliance with existing regulations on these topics. It does not create or confer any rights for, or on, any person and does not operate to create additional regulatory requirements that legally bind AMS or the public. Guidance documents are intended to provide a uniform method for achieving compliance with the USDA organic regulations, thereby reducing the burden on certified organic operations to develop their own methods and simplifying audits and inspections. Alternative approaches that can demonstrate compliance with the Organic Foods Production Act, as amended (7 U.S.C. 6501-6522), and its implementing regulations are also acceptable.

III. Electronic Access

Persons with access to Internet may obtain the interim instruction at either AMS' Web site at http://www.ams.usda.gov/nop or http://www.regulations.gov. Requests for hard copies of the interim instruction can be obtained by submitting a written request to the person listed in the ADDRESSES section of this Notice.

Authority: 7 U.S.C. 6501-6522.

Dated: October 19, 2017.
Bruce Summers,
Acting Administrator, Agricultural Marketing Service.

[FR Doc. 2017-23093 Filed 10-24-17; 8:45 am]

BILLING CODE 3410-02-P